FEDERAL RESERVE SYSTEM

Formations of, Acquisitions by, and Mergers of Bank Holding Companies; Correction

This notice corrects notice FR Doc. 2016-20773 published on page 59624 of the Federal Register on August 30, 2016.

Under the Federal Reserve Bank of Chicago heading, the entry for Mid Illinois Bancorp, Inc., Employee Stock Ownership Plan, Peoria, Illinois, to increase its ownership of Mid Illinois Bancorp, Inc., Peoria, Illinois, from 25.24 percent to 30 percent, and thereby increase its indirect ownership of South Side Trust and Savings Bank, Peoria, Illinois, is revised to read as follows:

Comments on this application must be received at the Reserve Bank indicated or the offices of the Board of Governors not later than September 23, 2016.

Board of Governors of the Federal Reserve System, September 13, 2016.
Michele T. Fennell,
Assistant Secretary of the Board.

[FR Doc. 2016-22395 Filed 9-16-16; 8:45 am]

BILLING CODE 6210-01-P